DEPARTMENT OF JUSTICE

National Institute of Corrections

Solicitation for a Cooperative Agreement—Workforce Development for Community Corrections: Defining Workforce Issues and Strategies for the 21st Century

AGENCY: National Institute of Corrections, Department of Justice.

ACTION: Solicitation for a cooperative agreement.

SUMMARY: The Department of Justice (DOJ), National Institute of Corrections (NIC), announces the availability of funds in FY2004 for a cooperative agreement to fund the Project “Workforce Development for Community Corrections: Defining Workforce Issues and Strategies for the 21st Century.” NIC will award this cooperative agreement to create a guidebook that will identify, analyze and address critical issues and challenges, and suggest strategies and solutions, related to recruitment, hiring, preemployment assessment, performance evaluation, job descriptions, retention of staff, and required knowledge and skills for promotion into first line supervisory positions. Up to $75,000 is available for this project.

DATES: Applications must be received by 4 p.m., eastern daylight savings time, on Thursday, June 3, 2004.

ADDRESSES: Mailed applications must be sent to: Director, National Institute of Corrections, 320 First Street, NW., Room 5007, Washington, DC 20534. Applicants are encouraged to use Federal Express, UPS, or similar service to ensure delivery by the due date as mail at NIC is still being delayed due to recent events.

Hand delivered applications can be brought to 500 First Street, NW., Room 700, Washington, DC 20534. At the front desk, call 7-3106 extension 0 for pickup. Faxed or e-mailed applications will not be accepted.

Electronic applications can be submitted at the www.grants.gov Web site.

FOR FURTHER INFORMATION CONTACT: All technical and/or programmatic questions concerning this announcement should be directed to Drew Molloy at the above address, or by calling (202) 514-0100 or 1-800-995-6423, extension 40100 or by e-mail at amolloy@bop.gov.

SUPPLEMENTARY INFORMATION:

Background

Over the past several years, community corrections professionals have been asked to take on expanded roles in the justice system and the broader community. For some staff the expected activities are new, and for others, the activities are reminiscent of what they were asked to do early in their careers. In addition, in the 21st century, the job expectations are not always clearly defined, are constantly changing to meet the needs of an agency, and may not always be targeted in recruiting and staff development efforts. Community corrections' staff are not only asked to supervise offenders, but are also asked to be change agents with offenders, develop partnerships with human services agencies, work closely with community-based organizations and advocacy groups, deliver offender services directly, and be familiar with changing technologies related to community corrections.

Purpose

This project will define the critical needs and challenges for the community corrections field as it seeks to provide a professional and skilled workforce in the 21st century. The project will consist of, but not be limited to, examining expanded and changing job roles and related job descriptions, the skills and experiences required to fill these jobs, the changing workforce entering the profession, recruitment and retention strategies, developing field staff into first line supervisors, and the changing role of first line supervisors. In addition, the project will look at what staff development and organizational development issues should be addressed, how agency executives can improve staff job satisfaction and move forward with a changing workforce, and what roles do institutions of higher learning, organized labor, research and the changing offender population (mental health, elderly, women offenders, violent and younger offenders) play in the process.

The project will also tie into the framework and principles of Evidence Based Practices (EBP); while recognizing that not every agency will be formally involved in EBP but will still be seeking answers to deal with the changing workforce of the 21st century.

Scope of Work

The project will consist of two components: (1) a small advisory workgroup of community correction practitioners and human resources specialists and, (2) the cooperative agreement award. The workgroup will provide the knowledge and expertise pertaining to the community corrections workforce and human resources in general. In addition, it will work closely with the cooperative agreement recipient as the guidebook is developed and finalized. It is anticipated that the workgroup will meet on at least two occasions during the fiscal year 2004. The second meeting will be held to review outcomes from the first meeting and to meet with the cooperative agreement recipient to review the status of the guidebook. The workgroup will be convened and funded by NIC with resources independent of the cooperative agreement.

The successful applicant for this cooperative agreement will be expected to work both independently and with the workgroup, gathering information on the human services workforce in the 21st century, with a focus on community corrections. To gather information the applicant may plan focus groups meetings, conduct research, visit community corrections agencies, conduct surveys, interview community corrections professionals at all levels, attend local, state, and national community corrections conferences, seek input from professional community corrections associations, contact criminal justice departments at institutions of higher learning and/or seek material related to the project from any other resources. Funding for these activities would come from the cooperative agreement award.

Focus groups will be conducted by NIC staff (and members of the workgroup) at one regional corrections conference and one national probation and parole conference, and possibly other meetings and conferences. A NIC sponsored meeting of state executives of probation, parole and community corrections will be held in which information for this project will be gathered from those individuals.

The cooperative agreement will have the following outcomes:

• Define the critical needs and challenges facing the community corrections profession as it seeks to provide a skilled and professional workforce in the 21st century.

• Define the skills and experiences required of a community corrections workforce in the 21st century.

• Develop and recommend job descriptions for the changing workforce.

• Identify and recommend recruitment, hiring and retention strategies for the changing community corrections workforce.

• Identify and recommend strategies for developing line staff into first line supervisors within the context of the changing workforce and changing roles of community corrections staff.

• Develop, write and prepare for final NIC publication a guidebook (that would serve as a resource for agencies) which outlines the aforementioned definitions, recommendations and strategies for the community corrections workforce in the 21st century. In addition, the guidebook could serve institutions of higher learning as a resource for incorporating community corrections workforce issues into the criminal justice curriculum.

A cooperative agreement is an assistance relationship where the National Institute of Corrections is substantially involved in all aspects of the project during the performance of the award. An award is made to a recipient who will, in concert with the Institute, develop and write an issues-oriented guidebook on recruiting, retaining, evaluating and developing into leadership roles a skilled workforce in the 21st century for probation, parole and community corrections agencies.

Specific Requirements

Applicants must prepare a proposal that describes their plan to provide the project outcomes. The plan must include goals and objectives, methodology, deliverables, management plan, and an overall project budget for a 12 month period for the date of award. Applicants must identify their key project staff and the relevant expertise of each, and address the manner in which they would perform all tasks in collaboration with the NIC Project Manager and the workgroup. Proposals are limited to twenty-five double-spaced pages in length, not including resumes, other addenda, and SF-424 forms.

Application Requirements

Applications must be submitted using OMB Standard Form 242, Application for Federal Assistance, Budget Information for Non-Construction Programs (SF424A), Assurances—Non-Construction Programs (SF424B) and Certifications Regarding Lobbying; Debarment; Suspension and Other Responsibility Matters; and Drug-Free Workplace Requirements. It is also requested that the optional form Ensuring Equal Opportunity for Applicants (DOJ Form 560) also be submitted. All of these forms can be found on NIC's Web site: www.nicic.org (under Partnering with NIC, Cooperative Agreements, How to Apply).

All applications should be concisely written, typed double spaced and referenced to the project by the “NIC Application Number” and Title referenced in this document. If submitted in hard copy, submit an original and 5 copies. The original should have the applicant's signature in blue ink. A cover letter must identify the responsible audit agency for the applicant's financial accounts.

Authority: Public Law 93-415.

Funds Available

This award will be limited to a maximum of $75,000 for both direct and indirect costs for 12 months. Funds may only be used for activities that are linked to the desired outcomes of the project. No funds are transferred to State or local governments.

All products from this funding effort will be in the public domain and available to interested agencies through the National Institute of Corrections.

Eligibility of Applicants

An eligible applicant is any State or general unit of local government, private or non-profit agency, educational institution, organization, individual, or team with expertise in the described areas.

Review Considerations

Applications received under this announcement will be subjected to a 3 to 5 person NIC Peer Review Process.

Number of Awards: One (1).

NIC Application Number: 04C30 This number should appear as a reference line in the cover letter, in box 11 of SF-424, and, if sent in hard copy, on the outside of the envelope in which the application is sent.

Catalog of Federal Domestic Assistance Number: 16.601—Training and staff Development.

Executive Order 12372: This project is not subject to the provisions of Executive Order 12372.

Dated: March 15, 2004.
Morris L. Thigpen,
Director, National Institute of Corrections.

[FR Doc. 04-6354 Filed 3-22-04; 8:45 am]

BILLING CODE 4410-36-M